DEPARTMENT OF HEALTH AND HUMAN SERVICES

Centers for Disease Control and Prevention

[60Day-14-0910]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Message Testing for Tobacco Communication Activities (OMB No. 0920-0910, exp. 1/31/2015)—Revision—National Center for Chronic Disease Prevention and Health Promotion (NCCDPHP), Centers for Disease Control and Prevention (CDC).

Background and Brief Description

In 2012, CDC's Office on Smoking and Health obtained OMB approval of a generic clearance that established a unified information collection framework for the development of tobacco-related health messages, including messages related to CDC's ACA-funded tobacco education campaign (Message Testing for Tobacco Communication Activities (MTTCA), OMB No. 0920-0910, exp. 1/31/2015).

The MTTCA clearance was initially approved with the following estimates: 14,974 annualized responses and 5,775 annualized burden hours. On January 2, 2014, CDC obtained OMB approval to increase the capacity of the MTTCA clearance to 36,847 annualized responses and 7,219 burden hours.

CDC has employed the MTTCA clearance to collect information about adult smokers' and nonsmokers' attitudes and perceptions, and to pre-test draft messages and materials for clarity, salience, appeal, and persuasiveness. A variety of information collection strategies are supported through this mechanism, including in-depth interviews, in-person focus groups, online focus groups, computer-assisted, in-person, or telephone interviews, and online surveys. CDC requests OMB approval for each data collection by submitting a project-specific request that describes project purpose, use, and methodology.

CDC plans to request OMB approval to extend the MTTCA clearance, with changes, for three years. The Revision information collection request (ICR) will propose further increases in the annualized estimated number of respondents and the annualized estimated burden hours. These increases are needed to support CDC's planned information collections and to accommodate additional needs that CDC may identify during the next three years. For example, the MTTCA generic clearance may be used to facilitate the development of tobacco-related health communications of interest for CDC's collaborative efforts with other federal partners including, but not limited to, the Food and Drug Administration (FDA), the Substance Abuse and Mental Health Services Administration (SAMHSA), the National Institutes of Health (NIH), and the National Cancer Institute (NCI). At this time the MTTCA clearance is expected to be sufficient to test tobacco related messages developed by CDC. However, the MTTCA clearance should not replace the need for additional generic clearance mechanisms HHS and other federal partners may need to test tobacco messages related to their campaigns and initiatives.

CDC's revised MTTCA clearance will also describe expansion of the target audience(s) that may be involved in message testing, such as youth ages 13-17 years. The 2014 Surgeon General's Report concluded that there is already sufficient evidence to caution youth against the use of electronic cigarettes. Tobacco and electronic cigarette advertising and promotional activities can prompt smoking initiation, especially among youth. Recent studies have found that 90.7% of middle school students and 92.9% of high school students have been exposed to pro-tobacco advertisements in stores, magazines and on the internet. Media campaigns have been shown to be effective as part of a comprehensive tobacco control program to decrease the initiation of tobacco use among youths and young adults. A coordinated series of health message testing activities will be required to support future development of effective, audience-specific and channel-specific messages for CDC's ACA-funded campaign.

Finally, there may be a need to test prevention and cessation messages related to products that are not currently regulated, including non-combustible tobacco products (electronic nicotine delivery systems such as electronic cigarettes or e-cigarettes) and some combustible products (such as cigars/little cigars and cigarillos). In the event that the FDA receives authority to regulate these products and decides to do a campaign about them, CDC will work closely with FDA to avoid duplication. Additionally, CDC will share with FDA the findings from any formative work related to the youth audience.

CDC will continue to use the MTTCA clearance to develop and test messages and materials for current and future phases of the ACA-funded media campaign, OSH's ongoing programmatic initiatives including, but not limited to, the Media Campaign Resource Center, reports from the Office of the Surgeon General, and other communication efforts and materials. Participation is voluntary and there are no costs to respondents other than their time.

Estimated Annualized Burden Hours
Type of respondents | Form name | Number of respondents | Number of responses per respondent | Average burden per response (in hours) | Total burden (in hours)
General Public and Special Populations | Screening and Recruitment | 20,000 | 1 | 2/60 | 667
| In-depth Interviews (In Person, telephone, etc.) | 96 | 1 | 1 | 96
| Focus Groups (In Person) | 160 | 1 | 1.5 | 240
| Focus Groups (Online) | 120 | 1 | 1 | 120
| Short Surveys/information needed to screen individuals being considered for inclusion in campaign ads (Online, Bulletin Board, etc.) | 9,800 | 1 | 10/60 | 1,633
| Medium Surveys (Online) | 9,940 | 1 | 25/60 | 4,142
| In-depth Surveys (Online) | 4,100 | 1 | 1 | 4,100
Total |  | 44,216 |  |  | 10,998

Leroy Richardson,
Chief, Information Collection Review Office, Office of Scientific Integrity, Office of the Associate Director for Science, Office of the Director, Centers for Disease Control and Prevention.

[FR Doc. 2014-18902 Filed 8-8-14; 8:45 am]

BILLING CODE 4163-18-P